DEPARTMENT OF HEALTH AND HUMAN SERVICES

Food and Drug Administration

[Docket No. FDA-2014-N-0001]

Advisory Committee Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed in the following table for an additional 2 years beyond charter expiration date. The new charters will be in effect until the dates of expiration listed in the following table.

DATES: Authority for these committees will expire on the dates indicated in the following table unless the Commissioner formally determines that renewal is in the public interest.

—
Name of committee | Date of expiration
Advisory Committee for Pharmaceutical Science and Clinical Pharmacology | January 22, 2016.
Gastrointestinal Drugs Advisory Committee | March 3, 2016.
Bone, Reproductive and Urologic Drugs Advisory Committee (formerly Reproductive Health Drugs Advisory Committee) | March 23, 2016.
| April 5, 2016.
Arthritis Advisory Committee | April 25, 2016.
Pharmacy Compounding Advisory Committee | May 1, 2016.
Anesthetic and Analgesic Drugs Advisory Committee | May 13, 2016.
Blood Products Advisory Committee | May 30, 2016.
Pulmonary-Allergy Drugs Advisory Committee | May 31, 2016.
Drug Safety and Risk Management Advisory Committee | June 2, 2016.
Science Advisory Board to the National Center for Toxicological Research | June 4, 2016.
Peripheral and Central Nervous System Drugs Advisory Committee | June 4, 2016.
Psychopharmacologic Drugs Advisory Committee | June 9, 2016.
Transmissible and Spongiform Encephalopathies Advisory Committee | June 26, 2016.
Science Board to the Food and Drug Administration | July 9, 2016.
Allergenic Products Advisory Committee

FOR FURTHER INFORMATION CONTACT: Michael Ortwerth, Director, Advisory Committee Oversight and Management Staff, Food and Drug Administration, 10903 New Hampshire Ave., Silver Spring, MD 20993-0002, 301-443-0572 or 1-800-741-8138. For further information related to FDA advisory committees please visit us at: http://www.fda.gov/AdvisoryCommittees/default.htm.

This notice is issued under the Federal Advisory Committee Act (5 U.S.C. app. 2).

Dated: August 19, 2014.
Peter Lurie,
Associate Commissioner for Policy and Planning.

[FR Doc. 2014-20017 Filed 8-22-14; 8:45 am]

BILLING CODE 4164-01-P